DEPARTMENT OF DEFENSE

Office of the Secretary of Defense

Establishment of the Pentagon Memorial Design Competition Jury

AGENCY: Office of the Secretary, Department of Defense.

ACTION: Notice of establishment.

SUMMARY: The Pentagon Memorial Design Competition Jury is being established in consonance with the public interest and in accordance with the provisions of Pub. L. 92463, the “Federal Advisory Committee Act,” title 5 U.S.C., App II. The Pentagon Memorial Design Competition Jury will review and evaluate all designs submitted in response to the Baltimore District, Corps of Engineers announcement of the design competition for a Pentagon Memorial to the victims of the September 11, 2001 terrorist attack on the Pentagon. The Jury will make a final recommendation on the Memorial Design to the Secretary of Defense through the Director, Administration and Management, once the evaluation process has been completed.

The Jury will consist approximately 11 members; six preeminent in various design fields, one member of the families of the victims, and four members that have had continuing and long-standing relationships with the Department of Defense and/or other Federal Agencies.

FOR FURTHER INFORMATION: Contact Jerry Shiplett, Special Assistant to the Director, Real Estate and facilities, Washington Headquarters Service on 703-614-9203.

Dated: August 5, 2002.
Patricia L. Toppings,
Alternate OSD Federal Register, Liaison Officer, Department of Defense.

[FR Doc. 02-20125 Filed 8-08-02; 8:45 am]

BILLING CODE 5001-08-M